FEDERAL COMMUNICATIONS COMMISSION

47 CFR Part 54

[CC Docket No. 96-45; FCC 97-157]

Universal Service; Correction

AGENCY: Federal Communications Commission.

ACTION: Correcting amendments.

SUMMARY: This document contains corrections to the authority citation to the final regulations, 47 CFR Part 54, which were published in the Federal Register of Tuesday, June 17, 1997, 62 FR 32912. The regulations implemented the statutory requirements of the Telecommunications Act of 1996 relating to universal service.

DATES: Effective August 22, 2007.

FOR FURTHER INFORMATION CONTACT: Katie King, Wireline Competition Bureau, Telecommunications Access Policy Division at (202) 418-7400 (voice), (202) 418-0484 (TTY), or e-mail at Katie.King@fcc.gov.

SUPPLEMENTARY INFORMATION:

Background

The final regulations that are the subject of these corrections implemented section 254 of the Communications Act of 1934, as amended, and relate to universal service. Section 254 was added to the Communications Act by section 101 of the Telecommunications Act of 1996 (Pub. L. 104-104, 110 Stat. 56).

Need for Correction

As published, the authority citation contains errors that may be misleading and needs to be corrected.

List of Subjects in 47 CFR Part 54

Communications common carriers, Health facilities, Infants and children, Libraries, Reporting and recordkeeping requirements, Schools, Telecommunications, Telephone.

Federal Communications Commission.
Marlene H. Dortch,
Secretary.

Accordingly, 47 CFR part 54 is corrected by making the following correcting amendments:

PART 54—UNIVERSAL SERVICE

1. The authority citation for part 54 is revised to read as follows:

Authority: 47 U.S.C. 151, 154(i), 201, 205, 214, and 254 unless otherwise noted.

[FR Doc. E7-16573 Filed 8-21-07; 8:45 am]

BILLING CODE 6712-01-P